DEPARTMENT OF ENERGY

Federal Energy Regulatory Commission

Sunshine Act Notice

April 12, 2007.

The following notice of meeting is published pursuant to section 3(a) of the government in the Sunshine Act (Pub. L. No. 94-409), 5 U.S.C 552b:

Agency Holding Meeting: Federal Energy Regulatory Commission.

Date and Time: April 19, 2007, 10 a.m.

Place: Room 2C, 888 First Street, NE., Washington, DC 20426.

Status: Open.

Matters To Be Considered: Agenda.

Note: Items listed on the agenda may be deleted without further notice.

FOR FURTHER INFORMATION CONTACT: Kimberly D. Bose, Secretary, Telephone (202) 502-8400. For a recorded message listing items Struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

917TH—Meeting

Regular Meeting

April 19, 2007, 10 a.m.

Item No. | Docket No. | Company
Administrative
A-1 | AD02-1-000 | Agency Administrative Matters.
A-2 | AD02-7-000 | Customer Matters, Reliability, Security and Market Operations.
A-3 | AD06-3-000 | Energy Market Update.
Electric
E-1 | RR06-1-006 | North American Electric Reliability Corporation.
E-2 | RR06-3-001 | North American Electric Reliability Corporation.
E-3 | RM06-4-002 | Promoting Transmission Investment through Pricing Reform.
E-4 | ER06-615-001, ER06-615-002, ER02-1656-027, ER02-1656-029, ER02-1656-031 | California Independent System Operator Corporation.
E-5 | EL07-33-000 | California Independent System Operator Corporation.
E-6 | EL07-37-000 | Californians for Renewable Energy, Inc. v. California Public Utilities Commission, Southern California Edison, and Long Beach Generation, L.L.C.
| EL07-40-000 | Californians for Renewable Energy, Inc. v. California Public Utilities Commission, Pacific Gas and Electric Company, Metcalf Energy Center, L.L.C. and the Los Medanous Energy Center, L.L.C.
E-7 | OMITTED.
E-8 | EL05-121-000, EL05-121-002 | PJM Interconnection, L.L.C.
E-9 | EL06-102-000 | American Electric Power Service Corporation.
E-10 | EL05-102-002 | Southern Company Services, Inc., Alabama Power Company, Georgia Power Company, Gulf Power Company, Mississippi Power Company, Savannah Electric and Power Company and Southern Power Company.
E-11 | ER07-568-000 | Pacific Gas and Electric Company.
E-12 | ER07-543-000 | Linden VFT, L.L.C.
E-13 | EL02-23-008, EL02-23-009, EL02-23-010, EL02-23-011, EL02-23-012 | Consolidated Edison Company of New York, Inc. v. Public Service Electric and Gas Company, PJM Interconnection, L.L.C., and New York Independent System Operator, Inc.
E-14 | RM07-14-000 | Electronic Filing of FERC Form No. 714.
E-15 | RM05-5-003 | Standards for Business Practices and Communication Protocols for Public Utilities.
E-16 | RM07-2-000 | Accounting and Reporting Requirements for Nonoperating Public Utilities and Licensees.
E-17 | RM01-8-006 | Revised Public Utility Filing Requirements for Electric Quarterly Reports.
E-18 | OMITTED.
E-19 | RR06-1-004 | North American Electric Reliability Council, North American Electric Reliability Corporation.
| RR07-1-000 | Delegation Agreement Between the North American Electric Reliability Corporation and Texas Regional Entity, a division of ERCOT.
| RR07-2-000 | Delegation Agreement Between the North American Electric Reliability Corporation and Midwest Reliability Organization.
| RR07-3-000 | Delegation Agreement Between the North American Electric Reliability Corporation and Northeast Power Coordinating Council: Cross Border Regional Entity, Inc.
| RR07-4-000 | Delegation Agreement Between the North American Electric Reliability Corporation and Reliability First Corporation.
| RR07-5-000 | Delegation Agreement Between the North American Electric Reliability Corporation and SERC Reliability Corporation.
| RR07-6-000 | Delegation Agreement Between the North American Electric Reliability Corporation and Southwest Power Pool, Inc.
| RR07-7-000 | Delegation Agreement Between the North American Reliability Corporation and Western Electricity Coordinating Council.
| RR07-8-000 | Delegation Agreement Between the North American Electric Reliability Corporation and Florida Reliability Coordinating Council.
| RR06-3-000 | North American Electric Reliability Corporation.
E-20 | EL03-3-002, ER02-1472-006 | Entergy Gulf States, Inc.
E-21 | OMITTED
E-22 | EL02-23-003 | Consolidated Edison Company of New York, Inc. v. Public Service Electric and Gas Company, PJM Interconnection, L.L.C., and New York Independent System Operator, Inc.
E-23 | ER06-1271-003, ER06-954-004, ER06-456-008 | PJM Interconnection, L.L.C.
| ER06-880-005 | PJM Transmission Owners
E-24 | EL01-106-001 | Old Dominion Electric Cooperative v. PJM Interconnection, L.L.C.
E-25 | OMITTED
E-26 | ER06-700-002, ER06-700-003 | California Independent System Operator Corporation.
Miscellaneous
M-1 | RM07-10-000, AD06-11-000 | Transparency Provisions of Section 23 of the Natural Gas Act.
M-2 | IN07-7-000 | Compliance with Financial Forms Filing Requirements.
| IN07-8-000, IN07-9-000, IN07-10-000, IN07-11-000, IN07-12-000, IN07-13-000, IN07-14-000, IN07-16-000, IN07-17-000, IN07-18-000, IN07-19-000, IN07-20-000, IN07-21-000, IN07-22-000 | Black Creek Hydro, Inc., Chugach Electric Association, Inc., Dauphin Island Gathering Partners, Eastern Shore Natural Gas Company, Energy West Development, Golden State Water Company, Granite State Gas Transmission Company, Jackson Prairie Underground Storage Project, MarkWest New Mexico, L.P., Nornew Energy Supply, Inc., Omya Inc., Panther Interstate Pipeline Energy, L.L.C., Steuben Gas Storage Company, UGI Utilities, Inc.
Gas
G-1 | RP04-249-001 | AES Ocean Express, L.L.C. v. Florida Gas Transmission Company.
| CP05-388-000 | Southern Natural Gas Company.
| CP06-1-000 | Florida Gas Transmission Company.
G-2 | RP06-437-001 | Northern Natural Gas Company.
G-3 | OMITTED
Hydro
H-1 | P-459-163 | Union Electric Company d/b/a AmerenUE.
H-2 | P-637-031 | Public Utility District No. 1 of Chelan County, Washington.
Certificates
C-1 | CP06-354-000, CP06-354-001 | Rockies Express Pipeline L.L.C.
| CP06-401-000 | TransColorado Gas Transmission Company.
| CP06-423-000 | Questar Overthrust Pipeline Company.
C-2 | CP06-407-000 | Missouri Interstate Gas, L.L.C.
| CP06-408-000 | Missouri Gas Company, L.L.C.
| CP06-409-000 | Missouri Pipeline Company, L.L.C.
| RP06-274-000 | Missouri Interstate Gas, L.L.C.
C-3 | CP06-452-000 | Trunkline Gas Company, L.L.C.
C-4 | CP07-25-000 | Questar Pipeline Company.
C-5 | CP06-435-000 | Columbia Gas Transmission Corporation.
| CP06-438-000 | Cobra Pipeline Company, Ltd.
C-6 | CP06-469-000 | Dominion Cove Point LNG, LP.
C-7 | CP06-442-000, CP06-443-000, CP06-444-000 | UGI LNG, Inc.
C-8 | CP06-66-001 | Port Barre Investments, L.L.C. d/b/a Bobcat Gas Storage.

A free webcast of this event is available through http://www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Kimberly D. Bose,
Secretary.

[FR Doc. E7-7334 Filed 4-16-07; 8:45 am]

BILLING CODE 6717-01-P